ENVIRONMENTAL PROTECTION AGENCY

40 CFR Part 52

[EPA-R04-OAR-2012-0762; FRL-9782-1]

Approval and Promulgation of Implementation Plans; Tennessee: Knox County Supplement Motor Vehicle Emissions Budget Update

AGENCY: Environmental Protection Agency (EPA).

ACTION: Direct final rule.

SUMMARY: EPA is taking direct final action to approve a revision to the Tennessee State Implementation Plan (SIP), submitted to EPA on December 13, 2012, by the State of Tennessee, through the Tennessee Department of Environment and Conservation (TDEC). Tennessee's December 13, 2012, SIP revision includes changes to the maintenance plan for the Knox County 1-hour ozone area submitted on August 26, 1992, and approved by EPA on September 27, 1993, and a subsequent SIP revision approved by EPA on August 5, 1997. The Knox County 1-hour ozone area was comprised of Knox County in its entirety. The December 13, 2012 SIP revision proposes to increase the safety margin allocated to motor vehicle emissions budgets (MVEB) for nitrogen oxides (NOX) and volatile organic compounds (VOC) for Knox County to account for changes in the emissions model and vehicle miles traveled (VMT) projection model. EPA is approving this SIP revision because the State has demonstrated that it is consistent with the Clean Air Act (CAA or Act).

DATES: This rule is effective on April 22, 2013 without further notice, unless EPA receives relevant adverse comment by March 22, 2013. If EPA receives such comment, EPA will publish a timely withdrawal in the Federal Register informing the public that this rule will not take effect.

ADDRESSES: Submit your comments, identified by Docket ID No. EPA-R04-OAR-2012-0762 by one of the following methods:

1. www.regulations.gov: Follow the on-line instructions for submitting comments.

2. Email: R4-RDS@epa.gov.

3. Fax: (404) 562-9019.

4. Mail: EPA-R04-OAR-2012-0762, Regulatory Development Section, Air Planning Branch, Air, Pesticides and Toxics Management Division, U.S. Environmental Protection Agency, Region 4, 61 Forsyth Street SW., Atlanta, Georgia 30303-8960.

5. Hand Delivery or Courier: Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 to 4:30, excluding federal holidays.

Instructions: Direct your comments to Docket ID No. EPA-R04-OAR-2013-0762. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Kelly Sheckler, Air Quality and Transportation Modeling Section, Air Planning Branch, Air, Pesticides and Toxics Management Division, U.S. Environmental Protection Agency, Region 4, 61 Forsyth Street SW., Atlanta, Georgia 30303-8960. Kelly Sheckler may be reached by phone at (404) 562-9222 or by electronic mail address sheckler.kelly@epa.gov.

SUPPLEMENTARY INFORMATION:

Table of Contents

I. Background

II. EPA's Analysis of Tennessee's SIP Revision

III. Final Action

IV. Statutory and Executive Order Reviews

I. Background

The Knox County, Tennessee, 1-hour ozone attainment and maintenance area is comprised of only Knox County in its entirety in Tennessee (hereafter referred to as the “Knox County” or “Area”). Knox County was originally designated as marginal nonattainment for the 1-hour ozone national ambient air quality standards (NAAQS) on November 6, 1991 (56 FR 56694).¹ Knox County was redesignated as attainment for the 1-hour ozone NAAQS on September 27, 1993 (58 FR 50271). In this approval, was a 10-year air quality maintenance plan covering the years 1994-2004. A subsequent revision to the Knox County Area maintenance plan was approved by EPA on August 5, 1997, that established MVEB for transportation conformity purposes. That plan satisfied the CAA requirement for a 10-year update of the Knox County 1-hour ozone maintenance plan.

¹ Subsequent to designating Knox County nonattainment for the 1-hour ozone NAAQS, EPA has since designated Knox County as part of the larger Knoxville nonattainment area for the 1997 8-hour ozone NAAQS (see 69 FR 23857, April 30, 2004) and the 2008 8-hour ozone NAAQS (see 77 FR 30160, May 21, 2012). This proposed action relates primarily to the MVEB established for Knox County for the 1-hour ozone NAAQS, and does not relate to the MVEB approved for 1997 8-hour ozone NAAQS for the Knoxville Area, nor does it relate to any pending MVEB that may be contemplated for the Knoxville Area for the 2008 8-hour ozone NAAQS.

On October 12, 2012, TDEC submitted a draft SIP revision which included changes to the emissions inventory for both on-road and off-road mobile sources using the latest EPA-approved mobile emissions and NONROAD models. New emissions data for both the new base year (attainment year) and the projected years (2004 and 2014) were calculated. The plan updated the 2004 MVEB and provided for a new MVEB for the year 2014.

On December 18, 2012, (77 FR 74820), EPA proposed to approve through parallel processing Tennessee's October 12, 2012, draft SIP revision with changes to the maintenance plan for the Knox County 1-hour ozone area. EPA did not receive any comments, adverse or otherwise, for the December 18, 2012, proposed rulemaking. The MVEB for the Knox County 1-hour ozone area that were published in EPA's proposed rulemaking on December 18, 2012, were not the same as the MVEB provided in Tennessee's December 13, 2012, final SIP revision related to the Knox County 1-hour ozone area. Consequently, EPA is not finalizing its December 13, 2012, proposal but is instead replacing that proposal with today's direct final rulemaking and accompanying proposed rulemaking. EPA is approving the State's implementation plan revision as a direct final action with a parallel proposal because the Agency views this as a noncontroversial submittal and anticipates no adverse comments. A detailed rationale for the approval is discussed below.

II. EPA's Analysis of Tennessee's SIP Revision

As discussed above, on December 13, 2012, the State of Tennessee, through TDEC, submitted a SIP revision to revise the MVEB for the Knox County 1-hour ozone maintenance plan to increase the safety margin as a result of new emissions model, VMT projection models, and other emission model input data. The MVEB (expressed in tons per day (tpd)) that are being updated through today's action were originally approved by EPA on September 27, 1993, updated on August 5, 1997, and February 4, 2004, and are outlined in the table below.

Table 1—Original MVEB for Knox County
| 2004 | 2014
NOX | 33.89 tpd | 22.49 tpd
VOC | 29.24 tpd | 22.12 tpd

TDEC is currently allocating portions of the available safety margin ² to the MVEB to account for new emissions models, VMT projections models, as well as changes to future vehicle mix assumptions, that influence the emission estimations. TDEC has now decided to allocate a majority of the safety margin available to the MVEB. Specifically, 7.97 tpd of the available VOC safety margin (15.94) is allocated to the 2004 MVEB, and 11.61 tpd for the available 2014 MVEB (23.22). Additionally, 2.79 tpd of the available NOX safety margin are allocated to the 2004 MVEB and 18.43 tpd for the 2014 MVEB. The remaining safety margin for VOC for 2004 is 7.97 tpd and for 2014 is 11.61 tpd. As a result, there will be no safety margin remaining for NOX for 2004 and 2014.

² A safety margin is the difference between the attainment level of emissions from all source categories (i.e., point, area, and mobile) and the projected level of emissions from all source categories. The State may choose to allocate some of the safety margin to the MVEB, for transportation conformity purposes, so long as the total level of emissions from all source categories remains equal to or less than the attainment level of emissions.

The following tables provide the adjusted VOC and NOX emissions data, for the 2004 base attainment year inventories, as well as the projected VOC and NOX emissions inventory 2014.

Table 2—Knox County Total Volatile Organic Compounds Emissions
Year | Area | Non-road | Biogenic | Mobile | Point | Total | Available safety margin
1990 | 28.82 | 9.81 | 32.43 | 40.84 | 8.06 | 119.96 |
1993 | 29.25 | 9.96 | 32.43 | 32.35 | 8.64 | 112.63 |
2004 | 30.90 | 10.52 | 32.43 | 21.27 | 8.90 | 104.02 | 15.94
2010 | 31.84 | 10.84 | 32.43 | 13.93 | 9.76 | 98.80 |
2014 | 32.48 | 11.06 | 32.43 | 10.51 | 10.26 | 96.74 | 23.22

Table 3—Knox County Total Nitrogen Oxides Emissions
Year | Area | Non-road | Biogenic | Mobile | Point | Total | Safety margin
1990 | 3.66 | 9.77 | 0 | 37.62 | 8.96 | 60.01 |
1993 | 3.72 | 9.92 | 0 | 34.85 | 9.54 | 58.03 |
2004 | 3.92 | 10.48 | 0 | 31.10 | 11.73 | 57.23 | 2.79
2010 | 4.04 | 10.79 | 0 | 19.99 | 12.53 | 47.35 |
2014 | 4.13 | 11.01 | 0 | 13.27 | 13.17 | 41.58 | 18.43

Table 4—Knox County NOX MVEB
[tpd]
| 2004 | 2014
NOX Emissions
Base Emissions | 31.10 | 13.27
Safety Margin Allocated to MVEB | 2.79 | 18.43
NOX Conformity MVEB | 33.89 | 31.71

Table 5—Knox County VOC MVEB
[tpd]
| 2004 | 2014
VOC Emissions
Base Emissions | 21.27 | 10.51
Safety Margin Allocated to MVEB | 7.97 | 11.61
VOC Conformity MVEB | 29.24 | 22.12

Taking into consideration the portion of the safety margin applied to the MVEB, the resulting difference between the attainment level of emissions from all sources and the projected level of emissions from all sources in the maintenance area, the area still attains the NAAQS and meets the maintenance requirements. The new safety margins, are listed below in Table 6.

Table 6—New Safety Margins for the Knox County
Year | VOC tpd | NOX tpd
2004 | 7.97 | 0
2014 | 11.61 | 0

As shown in Tables 2 and 3 above, VOC and NOX total emissions in Knox County are projected to steadily decrease from 2004 to the maintenance year of 2014. This VOC and NOX emission decrease demonstrates continued attainment/maintenance of the 1-hour ozone NAAQS for ten years from 2004 (the year the Area was effectively designated attainment for the 1-hour ozone NAAQS) as required by the CAA.

The revised MVEB that Tennessee submitted for the Knox County Area were developed with projected mobile source emissions derived using the MOBILE6 motor vehicle emissions model. This model was the most current model available at the time Tennessee was performing its analysis. However, EPA has now issued an updated motor vehicle emissions model known as Motor Vehicle Emission Simulator or MOVES. In its announcement of this model, EPA established a two-year grace period for continued use of MOBILE6.2 in regional emissions analyses for transportation plan and transportation improvement programs (TIPs) conformity determinations (extending to March 2, 2013),³ after which states (other than California) must use MOVES in conformity determinations for TIPs. As stated above, MOBILE6.2 was the applicable mobile source emissions model that was available when the original SIP was submitted.

³ EPA previously extended the grace period to use MOVES for regional emissions analysis in conformity determinations to March 2, 2013 (77 FR 11394).

III. Final Action

EPA is taking direct final action to approve Tennessee's December 13, 2012, SIP revision to allocate a portion of the available safety margin to the MVEB for the Knox County 1-hour ozone maintenance Area. This action, will result in higher NOX and VOC MVEB for transportation conformity purposes for Knox County, and would still be consistent with attainment for the 1-hour ozone NAAQS. EPA is proposing this action because it is consistent with the CAA and the transportation conformity requirements at 40 CFR part 93.

On March 12, 2008, EPA issued revised ozone NAAQS. The current action, however, is being taken to address requirements under the 1997 8-hour ozone NAAQS. EPA is publishing this rule without prior proposal because the Agency views this as a non-controversial amendment and anticipates no adverse comments. However, in the proposed rules section of this Federal Register publication, EPA is publishing a separate document that will serve as the proposal to approve the SIP revision should an adverse comment be filed. This rule will be effective on March 22, 2013 without further notice unless the Agency receives adverse comment by March 22, 2013. If EPA receives such comments, then EPA will publish a document withdrawing the final rule and informing the public that the rule will not take effect. All public comments received will then be addressed in a subsequent final rule based on the proposed rule. EPA will not institute a second comment period on this action. Any parties interested in commenting must do so at this time. If no such comments are received, the public is advised this rule will be effective on April 22, 2013 and no further action will be taken on the proposed rule.

IV. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 22, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Ozone, Intergovernmental relations, Incorporation by reference, Nitrogen dioxides, Reporting and recordkeeping requirements, and Volatile organic compounds.

Dated: February 7, 2013.
A. Stanley Meiburg,
Acting Regional Administrator, Region 4.

40 CFR part 52 is amended as follows:

PART 52—[AMENDED]

1. The authority citation for part 52 continues to read as follows:

Authority: 42 U.S.C. 7401 et seq.

Subpart II—Tennessee

2. Section 52.2220(e) is amended by adding a new entry at the end of the table for the “MVEB Update for the 1-hour Ozone Maintenance Plan for Knox County, Tennessee” to read as follows:

§ 52.2220 Identification of plan.

* * * * *

(e) * * *

EPA Approved Tennessee Non-Regulatory Provisions
Name of non-regulatory SIP provision | Applicable geographic or nonattainment area | State effective date | EPA approval date | Explanation
* * * * * * *
MVEB Update for the 1-hour Ozone Maintenance Plan for Knox County, Tennessee | Knox County, TN | 12/13/2012 | 02/20/13 [Insert citation of publication]

[FR Doc. 2013-03763 Filed 2-19-13; 8:45 am]

BILLING CODE 6560-50-P